DEPARTMENT OF HOMELAND SECURITY

Coast Guard

33 CFR Part 100

[Docket No. USCG-2024-0347]

Special Local Regulations; Marine Events Within the Fifth Coast Guard District

AGENCY: Coast Guard, DHS.

ACTION: Notification of enforcement of regulation.

SUMMARY: The Coast Guard will enforce special local regulations for certain waters of the Choptank River. This action is necessary to provide for the safety of life on these navigable waters located at Cambridge, MD, during a high-speed power boat demonstration event on May 18, 2024, and May 19, 2024. This regulation prohibits persons and vessels from entering the regulated area unless authorized by the Captain of the Port, Sector Maryland-National Capital Region or the Coast Guard Event Patrol Commander.

DATES: The regulations for the Cambridge Classic Powerboat Race, in Table 2 to paragraph (i))(2) to 33 CFR 100.501, will be enforced from 10 a.m. until 6:30 p.m., each day from May 18, 2024, through May 19, 2024.

FOR FURTHER INFORMATION CONTACT: If you have questions about this notification of enforcement, call or email MST2 Hollie Givens, U.S. Coast Guard Sector Maryland—National Capital Region; telephone 410-576-2596, email MDNCRMarineEvents@uscg.mil.

SUPPLEMENTARY INFORMATION: The Coast Guard will enforce special local regulations in Table 2 to paragraph (i)(2) of 33 CFR 100.501 for the Cambridge Classic Powerboat Race regulated area from 10 a.m. to 6:30 p.m. on May 18 and for the same hours on May 19, 2024. This action is being taken to provide for the safety of life on navigable waterways during this 2-day event. Our regulation for marine events within the Fifth Coast Guard District, § 100.501, specifies the location of the regulated area for the Cambridge Classic Powerboat Race which encompasses portions of the Choptank River and its branches. During the enforcement periods, as reflected in § 100.501(c), if you are the operator of a vessel in the regulated area you must comply with directions from the Patrol Commander or any Official Patrol displaying a Coast Guard ensign.

In addition to this notification of enforcement in the Federal Register, the Coast Guard plans to provide notification of this enforcement period via the Local Notice to Mariners and Broadcast Notice to Mariners over VHF-FM marine band radio.

Dated: April 24, 2024.
David E. O'Connell,
Captain, U.S. Coast Guard, Captain of the Port, Sector Maryland-National Capital Region.

[FR Doc. 2024-09182 Filed 4-29-24; 8:45 am]

BILLING CODE 9110-04-P